DEPARTMENT OF TRANSPORTATION

Federal Aviation Administration

14 CFR Part 71

[Airspace Docket No. 98-AAL-26]

RIN 2120-AA66

Modification and Revocation of VOR and Colored Federal Airways and Jet Routes; AK

AGENCY: Federal Aviation Administration (FAA), DOT.

ACTION: Final rule.

SUMMARY: This action revokes one jet route (J-814R), and modifies five jet routes (J-111, J-115, J-127, J-501 and J-511), three Very High Frequency Omnidirectional Range (VOR) Federal airways (V-319, V-453 and V-456), and one colored Federal airway (G-8), and located in Alaska. The FAA is taking this action for the following reasons: to realign the North Pacific (NOPAC) Air Traffic Service (ATS) route structure; to reflect the Adak Nondirectional Radio Beacon (NDB), AK, decommissioning from the National Airspace System (NAS); and to resolve an aeronautical charting discrepancy. This action will improve the management of air traffic operations in Alaska and enhance safety.

EFFECTIVE DATE: 0901 UTC, October 5, 2000.

FOR FURTHER INFORMATION CONTACT: Joseph C. White, Airspace and Rules Division, ATA-400, Office of Air Traffic Airspace Management, Federal Aviation Administration, 800 Independence Avenue, SW., Washington, DC 20591; telephone: (202) 267-8783.

SUPPLEMENTARY INFORMATION:

Background

On April 14, 1999, the FAA proposed to amend 14 CFR part 71 (part 71) to revoke one jet route, and to modify five jet routes, three VOR Federal airways, and one colored Federal airway in Alaska (64 FR 18392). This action was considered necessary due to overlapping jet routes, decommissioning of the Adak NDB, and the existence of obsolete fixes still shown on jet routes. Interested parties were invited to participate in this rulemaking by submitting written comments on the proposal to the FAA. No comments were received. Except for editorial changes, this amendment is the same as that proposed in the notice.

The Rule

This action amends part 71 by revoking one jet route (J-814R), and modifying five jet routes (J-111, J-115, J-127, J-501, and J-511), three VOR Federal airways (V-319, V-453, and V-456), and one colored Federal airway (G-8), in Alaska. The FAA is taking this action for the following reasons.

Segments of J-111 from Anchorage to Middleton Island to the noncompulsory reporting point SNOUT overlap existing J-804R segments and are not used. This action revises the legal description of J-111 to reflect this change.

Jet Route J-115 and Colored Federal Airway G-8 use Adak NDB which will be decommissioned. The new NDB on Adak Island will be named Mount Moffett NDB. This action changes the legal descriptions of J-115 and G-8 to show the new NDB.

Jet Routes J-127, J-501, J-511, and J-814R terminate at AUGIN, MIXER, ENCOR, and PANTT fixes which were once part of the NOPAC ATS route structure and these fixes are no longer required for air traffic control (ATC) purposes. As a result, the FAA is revising J-127, J-501, and J-511 to reflect this change in route structure and revoking J-814R as this route is no longer needed for ATC purposes.

Alaskan Federal Airways V-319 and V-453 are being amended by adding and converting non-part 95 segments to VOR Federal airway segments. Non-part 95 segments are routes that are nonregulatory, uncharted, and are not subject to the requirements of part 95, instrument flight rules (IFR) altitudes. The conversion of these non-part 95 segments to VOR Federal airway segments will add to the IFR airway and route infrastructure in Alaska. The new VOR Federal airway segments, unlike the non-part 95 segments, will enable the FAA to provide charted flight procedural information to the pilots pertaining to navigational guidance, minimum en route altitudes and minimum obstruction clearance altitudes information, thereby enhancing safety.

Alaskan Federal Airway V-456 is amended to correct a discrepancy on how the airway is depicted on the IFR En route L-3/L-4 Low Altitude—Alaska Chart and the Kodiak Aeronautical Sectional Chart. The outbound radial from King Salmon is 032° on the sectional chart and 033° on the en route chart. The current legal description for V-456 includes an intersection (King Salmon 053° and Kenai 239°) which will be removed to correct the discrepancy. The course from King Salmon to Kenai (032.71°) will resolve to 033° once the intersection is removed. This action will make the route segment a straight line and will not affect the fixes STREW, BITOP, or COPPS on V-456.

The FAA has determined that this regulation only involves an established body of technical regulations for which frequent and routine amendments are necessary to keep them operationally current. Therefore, this action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Jet routes, green Federal airways, and Alaskan VOR Federal airways are published in paragraph 2004, paragraph 6009(a), and paragraph 6010(b), respectively, of FAA Order 7400.9G, Airspace Designations and Reporting Points, dated September 1, 1999, and effective September 16, 1999, which is incorporated by reference in 14 CFR 71.1. The jet routes, green Federal airway, and Alaskan VOR Federal airways listed in this document will be published subsequently in or removed from the order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 1, 1999, and effective September 16, 1999, is amended as follows:

Paragraph 2004 Jet Routes

* * * * *

J-111 [Revised]

From Nome, AK, via Unalakleet, AK; McGrath, AK; Anchorage, AK.

* * * * *

J-115 [Revised]

From Shemya, AK, NDB; Mount Moffett, AK, NDB; Dutch Harbor, AK, NDB; Cold Bay, AK; King Salmon, AK; INT King Salmon 053° and Kenai, AK, 239° radials; Kenai; Anchorage, AK; Fairbanks, AK; Chandalar, AK, NDB; to Deadhorse, AK.

* * * * *

J-127 [Revised]

From King Salmon, AK; to INT King Salmon 042° and Anchorage, AK, 246° radials.

* * * * *

J-501 [Revised]

From San Marcus, CA, via Big Sur, CA; Point Reyes, CA, via Rogue Valley, OR; Hoquiam, WA; INT Hoquiam 354° and Tatoosh, WA, 162° radials; Tatoosh; Cape Scott, BC, Canada, NDB; Sandspit, BC, Canada; Biorka Island, AK; Yakutat, AK; Johnstone Point, AK; Anchorage, AK; Sparrevohn, AK; Bethel, AK; excluding the airspace within Canada.

* * * * *

J-511 [Revised]

From Dillingham, AK; Anchorage, AK; Big Lake, AK; Gulkana, AK; to Burwash Landing, YT, Canada, NDB, excluding the portion which lies over Canadian territory.

* * * * *

J-814R [Revoked]

* * * * *

Paragraph 6009(a) Green Federal Airways

* * * * *

G-8 [Revised]

From Shemya, AK, NDB; 20 AGL, Mount Moffet, NDB, AK; 20 AGL, Dutch Harbor, AK, NDB; 20 AGL, INT Dutch Harbor NDB 041° and Elfee, AK, NDB 253° bearings; 20 AGL, Elfee NDB; 20 AGL Saldo, AK, NDB; INT Saldo NDB 054° and Kachemak, AK, NDB 269° bearings; to Kachemak NDB. From Campbell Lake, AK, NDB; Glenallen, AK, NDB; INT Glenallen NDB 052° and Nabesna, AK, NDB 252° bearings; Nabesna NDB.

* * * * *

Paragraph 6010(b) Alaskan VOR Federal Airways

* * * * *

V-319 [Revised]

From Yakutat, AK, via Johnstone Point, AK; INT Johnstone Point 286° and Anchorage, AK, 117° radials; Anchorage; Sparrevohn, AK; Bethel, AK; Hooper Bay, AK; Nanwak, AK, NDB; to Kipnuk, AK.

* * * * *

V-453 [Revised]

From King Salmon, AK; Dillingham, AK; INT Dillingham 308° and Bethel, AK, 143° radials; Bethel; to Unalakleet, AK.

* * * * *

V-456 [Revised]

From Cold Bay, AK; King Salmon, AK; Kenai, AK; Anchorage, AK; Big Lake, AK; Gulkana, AK; to Northway, AK.

* * * * *

Issued in Washington, DC, on May 30, 2000.
Reginald C. Matthews,
Manager, Airspace and Rules Division.

[FR Doc. 00-14044 Filed 6-5-00; 8:45 am]

BILLING CODE 4910-13-P